DEPARTMENT OF THE INTERIOR

Minerals Management Service

Outer Continental Shelf (OCS) Scientific Committee (SC); Announcement of Plenary Session

AGENCY: Minerals Management Service (MMS), Interior.

ACTION: Notice of Meeting.

SUMMARY: The OCS Scientific Committee will meet at the Sheraton Anchorage Hotel in Anchorage, AK.

DATES: Wednesday, April 29, 2009, from 8:30 a.m. to 5 p.m.; Thursday, April 30, 2009, from 8 a.m. to 4:30 p.m.; and Friday, May 1, 2009, 8 a.m. to 4:30 p.m.

ADDRESSES: Sheraton Anchorage Hotel, 401 E. 6th Avenue, Anchorage, Alaska 99501, telephone (907) 276-8700.

FOR FURTHER INFORMATION CONTACT: A copy of the agenda may be requested from MMS by calling Ms. Carolyn Beamer at (703) 787-1211. Other inquiries concerning the OCS SC meeting should be addressed to Dr. James Kendall, Executive Secretary to the OCS SC, Minerals Management Service, 381 Elden Street, Mail Stop 4043, Herndon, Virginia 20170-4817 or by calling (703) 787-1656.

SUPPLEMENTARY INFORMATION: The OCS SC will provide advice on the feasibility, appropriateness, and scientific value of the OCS Environmental Studies Program to the Secretary of the Interior through the Director of the MMS. The SC will review the relevance of the research and data being produced to meet MMS scientific information needs for decision making and may recommend changes in scope, direction, and emphasis.

The Committee will meet in plenary session on Wednesday, April 29. The Deputy Associate Director will address the Committee on the general status of the MMS and its activities. There will be an update on OCS activities in the Alaska OCS Region and Regional Supervisors for Environment and Leasing from each region will present an overview of the Environmental Studies Program and current issues.

On Thursday, April 30, the Committee will meet in discipline breakout groups (i.e., biology/ecology, physical sciences, and social sciences) to review the specific research plans of the MMS regional offices for Fiscal Years 2010 and 2011.

On Friday, May 1, the Committee will meet in plenary session for reports of the individual discipline breakout sessions of the previous day and to continue with Committee business.

The meetings are open to the public. Approximately 30 visitors can be accommodated on a first-come-first-served basis at the plenary session.

Authority: Federal Advisory Committee Act, Public Law 92-463, 5 U.S.C., Appendix I, and the Office of Management and Budget's Circular A-63, Revised.

Date: March 24, 2009.
Chris C. Oynes,
Associate Director for Offshore Energy and Minerals Management.

[FR Doc. E9-7060 Filed 3-27-09; 8:45 am]

BILLING CODE 4310-MR-P